DEPARTMENT OF THE INTERIOR

National Park Service

Notice of Intent To Prepare a General Management Plan and Environmental Impact Statement

AGENCY: National Park Service, Interior.

SUMMARY: Pursuant to section 102(2)(C) of the National Environmental Policy Act (NEPA) of 1969, the National Park Service (NPS) announces its intent to prepare a General Management Plan and Environmental Impact Statement (GMP/EIS) for Cedar Creek and Belle Grove National Historical Park, located in Frederick, Shenandoah, and Warren Counties of Virginia. The park consists of 3,000 acres that comprise significant portions of the Cedar Creek Battlefield, a decisive battle in the Civil War, and Belle Grove Plantation, an antebellum manor house listed on the National Register of Historic Places. In the enabling legislation for the park, Congress established a Federal Advisory Commission to advise in the preparation of a GMP, and key partner organizations who may continue to own and manage properties within the park. Prepared by planners at the park and in the NPS Northeast Region, with assistance from advisors and consultants, the GMP/EIS will propose a long-term approach to managing Cedar Creek and Belle Grove National Historical Park.

FOR FURTHER INFORMATION CONTACT: Diann Jacox, Superintendent, Cedar Creek and Belle Grove National Historical Park, (540) 868-9176.

SUPPLEMENTARY INFORMATION: Consistent with the park's mission, NPS policy, and other laws and regulations, alternatives will be developed to guide the management of the site over the next 15 to 20 years. The alternatives will incorporate various zoning and management prescriptions to ensure resource protection and public enjoyment of the site, and continued involvement by the key partner organizations. The environmental consequences that could result from implementing the various alternatives will be evaluated in the GMP/EIS. The public will be invited to express opinions about the management of the park early in the process through public meetings and other media; and will have an opportunity to review and comment on the draft GMP/EIS. The Advisory Commission and key partner organizations will be involved early in the planning process and will remain actively involved throughout the development of the plan. Following the public review processes outlined under NEPA, the final plan will become official, authorizing implementation of a preferred alternative. The target date for the Record of Decision is October 8, 2008.

Dated: June 2, 2005.
Diann Jacox,
Superintendent, Cedar Creek and Belle Grove National Historical Park.

[FR Doc. 05-12211 Filed 6-20-05; 8:45 am]

BILLING CODE 4312-52-M